DEPARTMENT OF THE INTERIOR

Bureau of Indian Affairs

[AAK4000000 A0A3A0000.999900 13XA2100DD]

Privacy Act of 1974, as Amended; Notice To Amend an Existing System of Records

AGENCY: Bureau of Indian Affairs, Interior.

ACTION: Notice of amendment to an existing system of records.

SUMMARY: Pursuant to the provisions of the Privacy Act of 1974, as amended, the Department of the Interior is issuing a public notice of its intent to amend the Bureau of Indian Affairs Privacy Act system of records titled, Trust Asset and Accounting Management System—Interior, BIA-04. The amendment would update the system location, categories of individuals covered, categories of records, authority for maintenance, storage, safeguards, retention and disposal, system manager and address, notification procedures, records access and contesting procedures, records source categories. It would also update the routine uses to include activities related to land consolidation of fractionated lands. The system provides the Bureau of Indian Affairs and tribal users access to trust asset data and trust asset management tools to create, modify, and maintain records relating to land ownership, contracts and leases, and beneficial owners.

DATES: Comments must be received by December 24, 2014. The amendments to the system will be effective December 24, 2014.

ADDRESSES: Any person interested in commenting on this notice may do so by: Submitting comments in writing to Scott Christenson, Indian Affairs Acting Privacy Act Officer, 5600 American Boulevard West, Ste. 500, Bloomington, Minnesota 55437; hand-delivering comments to Scott Christenson, Indian Affairs Acting Privacy Act Officer, 5600 American Boulevard West, Ste. 500, Bloomington, Minnesota 55437; or emailing comments to biaprivacy@bia.gov.

FOR FURTHER INFORMATION CONTACT: Deputy Bureau Director, Bureau of Indian Affairs, Office of Trust Services, U.S. Department of the Interior, 1849 C Street NW., MS-4620-MIB, Washington, DC 20240, or by telephone at 202-208-5831.

SUPPLEMENTARY INFORMATION:

I. Background

The Department of the Interior (DOI), Bureau of Indian Affairs (BIA), maintains the “Trust Asset and Accounting Management System—Interior, BIA-04,” system of records. The purpose of this system is to provide BIA and Tribal users access to trust asset data and trust asset management tools to create, modify, and maintain records relating to land ownership, contracts and leases, and beneficial owners. The amendments to the system will include updating the system location, categories of individuals covered by the system, categories of records in the system, authority for maintenance of the system, storage, safeguards, retention and disposal, system manager and address, notification procedures, records access and contesting procedures, records source categories, and updating the routine uses to include activities related to land consolidation of fractionated lands. This system notice was last published in the Federal Register on February 27, 2007, 72 FR 8772-8776.

The amendments to the system will be effective as proposed at the end of the comment period (the comment period will end 40 days after the publication of this notice in the Federal Register), unless comments are received which would require a contrary determination. DOI will publish a revised notice if changes are made based upon a review of the comments received.

II. Privacy Act

The Privacy Act of 1974, as amended (5 U.S.C. 552a), embodies fair information practice principles in a statutory framework governing the means by which Federal Agencies collect, maintain, use, and disseminate individuals' personal information. The Privacy Act applies to records about individuals that are maintained in a “system of records.” A “system of records” is a group of any records under the control of an agency for which information is retrieved by the name of an individual or by some identifying number, symbol, or other identifying particular assigned to the individual. In the Privacy Act, an individual is defined as a U.S. citizen or lawful permanent resident. As a matter of policy, DOI extends administrative Privacy Act protections to all individuals. Individuals may request access to their own records that are maintained in a system of records in the possession or under the control of DOI by complying with DOI Privacy Act regulations, 43 CFR part 2.

The Privacy Act requires each agency to publish in the Federal Register a description denoting the type and character of each system of records that the agency maintains, the routine uses that are contained in each system in order to make agency record keeping practices transparent, to notify individuals regarding the uses of their records, and to assist individuals to more easily find such records within the agency. Below is the description of the Bureau of Indian Affairs, Trust Asset and Accounting Management System—Interior, BIA-04, system of records.

In accordance with 5 U.S.C. 552a(r), DOI has provided a report of this system of records to the Office of Management and Budget and to Congress.

III. Public Disclosure

Before including your address, phone number, email address, or other personal identifying information in your comment, you should be aware that your entire comment including your personal identifying information—may be made publicly available at any time. While you can ask us in your comment to withhold your personal identifying information from public review, we cannot guarantee that we will be able to do so.

Dated: November 10, 2014.
Teri Barnett,
DOI Privacy Act Officer.

SYSTEM NAME:

Trust Asset and Accounting Management System—Interior, BIA-04.

SECURITY CLASSIFICATION:

Unclassified.

SYSTEM LOCATION:

Records are maintained in office systems and databases at the Bureau of Indian Affairs, Office of Trust Services, U.S. Department of the Interior, 1849 C Street NW., Washington, DC 20240; other DOI program offices; BIA regional and field locations; and at DOI contractor facilities.

CATEGORIES OF INDIVIDUALS COVERED BY THE SYSTEM:

Individuals, non-Indians and Indians, and Indian tribal entities who are owners of land held in trust or restricted status by the Federal Government.

Individuals, non-Indians and Indian, Indian tribal entities, private businesses and financial institutions that have a permit, lease, contract, right-of-way, or other legal instrument approved by the Secretary of the Interior that allows them to use trust or restricted land, or to extract resources from the trust or restricted land.

This system may also contain information regarding DOI and BIA employees and officials who are acting in their official capacity to administer program activities, or who are involved in land title and resource management functions.

CATEGORIES OF RECORDS IN THE SYSTEM:

Records in this system include: (a) A legal land description, current ownership, probate and history of Indian trust lands, including title and beneficial ownership, and resources management, classification for all land held in trust or restricted status by the Federal Government for the benefit of Indian tribes and individual Indians; (b) any encumbrances against the title to land; (c) name, address, BIA identification number, phone number, information about parents of landowners for identification purposes, and Social Security number for each Indian or non-Indian land owner; (d) name, address, phone number and Federal tax identification number of each person or entity who has a permit, lease, contract, right-of-way, or other legal instrument approved by the Secretary of the Interior that allows such entity to use the trust or restricted land, or to extract renewable or non-renewable resources from such land; (e) name, address, phone number and Federal taxpayer identification number of any company that has a permit, lease, contract, right-of-way or other legal instrument approved by the Secretary of the Interior that allows such company to use the trust or restricted land or to extract renewable or nonrenewable resources from such land; (f) the term of the permit, lease, contract, right-of-way or other legal instrument; (g) records concerning individuals which have arisen as a result of that individual's receipt of overpayment(s) relative to land disposal, leases, sales and rentals; (h) the trust income collected and distributed for such permit, lease, contract, right-of-way or other legal instrument; and (i) official correspondence, appraisals, maps, purchase offers, and other documents related to land consolidation efforts or other program activities that may include name, address, email address, phone number, age, date of birth, Social Security number, Tribal enrollment number, BIA identification number, land ownership interests in restricted or fractioned lands, and other information related to these program activities.

AUTHORITY FOR MAINTENANCE OF THE SYSTEM:

25 CFR Part 150, Land records and title documents; 25 CFR Part 151, Land Acquisitions; 25 CFR Part 152, Issuance of patents in fee, certificates of competency, removal of restrictions, and sale of certain Indian lands; 25 U.S.C. 311 (The Act of March 3, 1901), 31 Stat. 1084, Public Law 56-382; 25 U.S.C. 393 (The Act of March 3, 1921), 41 Stat. 1232, Public Law. 66-359; 25 U.S.C. 2201 et. seq. (Indian Land Consolidation Act), 96 Stat. 2515, Public Law 97-459; 98 Stat. 3171, Public Law 98-608, Public Law 102-238; 25 U.S.C. 415 as amended by P.L. 112-151 (HEARTH Act of 2012); 43 U.S.C. 1601 (The Alaska Native Claims Settlement Act), 106 Stat. 2112-2125, Public Law 92-203; 25 U.S.C. 406 and 407 (The Act of June 25, 1910): 36 Stat. 857; 61-313, 78 Stat. 186-187; 25 U.S.C. 413 (The Act of February 14, 1920), 41 Stat. 415; 47 Stat. 1417; and 25 U.S.C. 2106 (Indian Mineral Development Act of 1982): 86 Stat. 1940, Public Law 97-382.

ROUTINE USES OF RECORDS MAINTAINED IN THE SYSTEM, INCLUDING CATEGORIES OF USERS AND THE PURPOSES OF SUCH USES:

TAAMS is the system of record for title and land resource management of Indian Trust and Restricted Land within the Department of the Interior (DOI) and the Bureau of Indian Affairs (BIA). TAAMS provides DOI and Tribal users access to trust asset data and trust asset management tools to create, modify and maintain records for land ownership, contracts, leases, and beneficial owners. TAAMS functionalities include title, leasing, accounting and reporting modules to maintain and track land title documents, contracts, right of way, revenue distributions, invoicing, collections, acquisitions, legal details relating to land transactions, receipt and distribution of trust funds, title status, owner inventory, chain of title, and oil and gas royalty distributions. TAAMS also supports DOI land consolidation activities, and provides an interface to Trust Funds Accounting System (TFAS), an accounting system used to meet DOI's fiduciary trust responsibilities to manage the receipt, investment, and disbursement of monies held in trust for individual Indians, Alaskan Natives, and Tribes.

In addition to those disclosures generally permitted under 5 U.S.C. 552a(b) of the Privacy Act, all or a portion of the records or information contained in this system may be disclosed outside DOI as a routine use pursuant to 5 U.S.C. 552a(b)(3) as follows:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state, territorial and local governments, and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media and the public, with the approval of the Public Affairs Officer in consultation with Counsel and the Senior Agency Official for Privacy, where there exists a legitimate public interest in the disclosure of the information, except to the extent it is determined that release of the specific information in the context of a particular case would constitute an unwarranted invasion of personal privacy.

(13) To a consumer reporting agency if the disclosure requirements of the Debt Collection Act, as outlined at 31 U.S.C. 3711(e) (1), have been met.

(14) To any of the following entities or individuals, when the entity or individual makes a written request for names or mailing addresses of owners of any interest in trust or restricted lands, and information on the location of the parcel and the percentage of undivided interest owned by each individual:

(i) Other owners of interests in trust or restricted lands within the same reservation;

(ii) The tribe that exercises jurisdiction over the land where the parcel is located or any person who is eligible for membership in that tribe; and

(iii) Any person that is leasing, using, or consolidating, or is applying to lease, use, or consolidate, such trust or restricted land or the interest in trust or restricted lands.

(15) To Indian tribes entering into a contract or compacts of real estate or title functions under the Indian Self-Determination and Education Assistance Act, as amended.

(16) To Indian tribes (including tribal employees) that (1) operate, or are eligible to operate, land consolidation activities on behalf of the Department of the Interior (DOI), (2) agree to non-disclosure, and (3) submit a request in writing, upon a determination by the Department that such activities shall occur on the tribe's reservation and when the information relates to owners of fractionated land. Information disclosed may include but not be limited to the following:

(a) Contact information;

(b) Relevant personal characteristics of the owner, including age, tribal membership, and whether alive or deceased;

(c) Details regarding the type of ownership, such as the type of interest and whether the interest is purchasable; and

(d) Status information on or about transactions, such as whether an offer has been sent, accepted or rejected, and whether the owner is a willing seller.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Paper records are maintained in file folders stored in file cabinets, and electronic records are maintained in password-protected systems, removable drives, computer servers, email and databases, and on media such as magnetic disk, diskette, compact discs and computer tapes.

RETRIEVABILITY:

Records are retrieved using either: (a) An identifier linked to a parcel; (b) an identifier for a property interest owner, such as name, Social Security number, tribe, tribal enrollment number, or census number; or (c) identifiers linked to encumbrances on ownership such as mortgages and rights-of-way.

SAFEGUARDS:

Records are maintained in accordance with 43 CFR 2.226 and other applicable security and privacy policies and standards. Access to records is provided on a need-to-know basis only. During working hours, paper records are maintained in locked file cabinets under the control of authorized personnel.

Electronic records are safeguarded by permissions set to “Authenticated Users” which requires password login. The computer servers in which records are stored are located at a secured Department of the Interior and contractor facilities. Access to servers is granted to authorized personnel with the requisite security clearance and is based on business necessity in the performance of official duties. The Security Plan addresses the Department's Privacy Act safeguard requirements for Privacy Act systems at 43 CFR 2.226. A Privacy Impact Assessment was conducted to ensure that Privacy Act safeguard requirements are met. The assessment verified that appropriate controls and safeguards are in place. Personnel authorized to access the system must complete all Security, Privacy, and Records Management training and sign the Rules of Behavior.

RETENTION AND DISPOSAL:

Paper records are covered by Indian Affairs Records Schedule records series, 4600, and have been scheduled as permanent records under National Archives and Records Administration (NARA) Job No. N1-075-06-7, approved March 23, 2006 and NARA Job No. N1-075-04-4, approved November 21, 2003. Records are maintained for a maximum of 5 years or when no longer needed for current business operations and then retired to the American Indian Records Repository, which is a Federal Records Center. In accordance with the Indian Affairs Records Schedule, the subsequent legal transfer of records to the National Archives of the United States will be as jointly agreed to between the United States Department of the Interior and the NARA.

Electronic records in this system are covered by Indian Affairs Records Schedules records series 2200-TAAMS, and have been scheduled as permanent records under NARA Job No. N1-075-09-8, approved on February 13, 2013. Records are maintained for a maximum of 2 years or when no longer needed for current business operations and then retired to the American Indian Records Repository.

SYSTEM MANAGER AND ADDRESS:

Deputy Bureau Director, Bureau of Indian Affairs, Office of Trust Services, U.S. Department of the Interior, 1849 C Street NW., MS 4620-MIB, Washington, DC 20240.

NOTIFICATION PROCEDURES:

An individual requesting notification of the existence of records on himself or herself should send a signed, written inquiry to the System Manager at the address identified above. To ensure proper handling of your request, the request envelope and letter should both be clearly marked “PRIVACY ACT INQUIRY.” A request for notification must meet the requirements of 43 CFR 2.235 and include the following information:

(a) Proof of your identity;

(b) List of all of the names by which you have been known, such as maiden name or alias;

(c) Your Social Security number;

(d) Mailing address;

(e) Tribe, tribal enrollment or census number;

(f) BIA home agency; and

(g) Time period(s) that records belonging to you may have been created or maintained, to the extent known by you.

RECORDS ACCESS PROCEDURES:

An individual requesting records on himself or herself should send a signed, written inquiry to the System Manager at the address identified above. To ensure proper handling of your request, the request envelope and letter should both be clearly marked “PRIVACY ACT REQUEST FOR ACCESS.” A request for access must meet the requirements of 43 CFR 2.238 and include the following information:

(a) Proof of your identity;

(b) List of all of the names by which you have been known, such as maiden name or alias;

(c) Your Social Security number;

(d) Mailing address;

(e) Tribe, tribal enrollment or census number;

(f) BIA home agency; and

(g) Time period(s) that records belonging to you may have been created or maintained, to the extent known by you.

Your request should specify whether you are seeking all of the records about you that may be maintained by the system, or only a specific portion of them. If you are only seeking a portion of them, you should describe those records you are seeking with sufficient detail to enable the records to be located with a reasonable amount of effort.

CONTESTING RECORDS PROCEDURES:

An individual requesting corrections or the removal of material from his or her records should send a signed, written inquiry to the System Manager at the address identified above. To ensure proper handling of your request, the request envelope and letter should both be clearly marked “PRIVACY ACT REQUEST FOR AMENDMENT.” A request for access must meet the requirements of 43 CFR 2.246 and include the following information:

(a) Proof of your identity;

(b) List of all of the names by which you have been known, such as maiden name or alias;

(c) Your Social Security number;

(d) Mailing address;

(e) Tribe, tribal enrollment or census number;

(f) BIA home agency; and

(g) Time period(s) that records belonging to you may have been created or maintained, to the extent known by you.

Before you make such a request, you must have requested access to your records and have either inspected them or obtained copies of them as described above. You must also identify which record or portion thereof you are contesting, indicate why you believe that it is not accurate, relevant, timely, or complete, and provide a copy of any documents in your possession that support your claim with your letter. You may also propose specific language to implement the changes sought.

RECORD SOURCE CATEGORIES:

Records in the system are obtained from: (a) DOI Bureaus and Offices including Bureau of Indian Affairs, Office of the Special Trustee for American Indians, Office of Natural Resources Revenue, Bureau of Land Management, Office of Hearings and Appeals, and other Bureaus and Office programs; (b) other Federal, state and local agencies; (c) Tribal offices if the title or realty function is contracted or compacted under the Indian Self Determination and Education Assistance Act, Public Law 93-638; (d) Courts of competent jurisdiction, including tribal courts; (e) private, financial and business institutions, and entities; and (f) correspondents, participants, beneficiaries, land owners, and members of the public.

EXEMPTIONS CLAIMED FOR THE SYSTEM:

None.

[FR Doc. 2014-27033 Filed 11-13-14; 8:45 am]

BILLING CODE 4334-12-P